DEPARTMENT OF TRANSPORTATION

Federal Aviation Administration

RTCA Special Committee 193/EUROCAE Working Group 44: Terrain and Airport Databases

AGENCY: Federal Aviation Administration (FAA), DOT.

ACTION: Notice of RTCA Special Committee 193/EUROCAE Working Group 44 meeting.

SUMMARY: The FAA is issuing this notice to advise the public of a meeting of RTCA Special Committee 193/EUROCAE Working Group 44: Terrain and Airport Databases.

DATES: The meeting will be held June 9-13, 2003 from 9 a.m.-5 p.m.

ADDRESSES: The meeting will be held at Jeppesen, 55 Inverness Drive East, Englewood, CO 80112.

FOR FURTHER INFORMATION CONTACT: (1) RTCA Secretariat, 1828 L Street, NW., Suite 805, Washington, DC 20036; telephone (202) 833-9339; fax (202) 833-9434; Web site http://www.rtca.org. (2) Mr. James E. Terpstra, Jeppesen, telephone (303) 328-4401.

SUPPLEMENTARY INFORMATION: Pursuant to section 10(a)(2) of the Federal Advisory Committee Act (Pub. L. 92-463, 5 U.S.C., Appendix 2), notice is hereby given for a Special Committee 193/EUROCAE Working Group 44 meeting. The agenda will include:

• June 9:

• Opening Plenary Session (Welcome and Introductory Remarks, Review/Approval of Meeting Agenda, Review Summary of Previous Meeting)

• Presentations/Discussions

• Subgroup 4 (Database Exchange Format)

• Resolution of Action Items

• Feature catalogue review

—Aerodrome database

—Terrain database

—Obstacle database

• June 10:

• Subgroup 4 (Continue previous day activities)

• June 11:

• Subgroup 4 (Continue previous day activities)

• Metadata Review

• June 12:

• Subgroup 4 (Continue previous day activities)

• June 13:

• Closing Plenary Session (Summary of Subgroup 4, Assign Tasks, Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 30, 2003.
Norman Fujisaki,
Deputy Director, System Architecture and Investment Analysis.

[FR Doc. 03-11456 Filed 5-7-03; 8:45 am]

BILLING CODE 4910-13-M